DEPARTMENT OF TRANSPORTATION

Federal Aviation Administration

14 CFR Part 39

[Docket No. FAA-2024-0991; Project Identifier MCAI-2024-00051-A; Amendment 39-22724; AD 2024-07-03]

RIN 2120-AA64

Airworthiness Directives; Diamond Aircraft Industries Inc. Airplanes

AGENCY: Federal Aviation Administration (FAA), DOT.

ACTION: Final rule; request for comments.

SUMMARY: The FAA is adopting a new airworthiness directive (AD) for certain Diamond Aircraft Industries Inc. Model DA 62 airplanes. This AD was prompted by a report that certain revisions of the airplane maintenance manual (AMM) specified incorrect torque values for the horizontal stabilizer attachment bolts. This AD requires reviewing the airplane maintenance records to determine the torque values for the horizontal stabilizer attachment bolts and torquing the horizontal stabilizer attachment bolts to the correct torque value if necessary. The FAA is issuing this AD to address the unsafe condition on these products.

DATES: This AD is effective April 24, 2024.

The Director of the Federal Register approved the incorporation by reference of a certain publication listed in this AD as of April 24, 2024.

The FAA must receive comments on this AD by May 24, 2024.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-0991; or in person at Docket Operations between 9 a.m. and 5 p.m., Monday through Friday, except Federal holidays. The AD docket contains this final rule, the mandatory continuing airworthiness information (MCAI), any comments received, and other information. The street address for Docket Operations is listed above.

Material Incorporated by Reference:

• For service information contact Diamond Aircraft Industries Inc., 1560 Crumlin Road, London, N5V 1S2, Canada; phone: (519) 457-4041; email: support-canada@diamondaircraft.com; website: diamondaircraft.com.

• You may view this service information at the FAA, Airworthiness Products Section, Operational Safety Branch, 901 Locust, Kansas City, MO 64106. For information on the availability of this material at the FAA, call (817) 222-5110. It is also available at regulations.gov under Docket No. FAA-2024-0991.

FOR FURTHER INFORMATION CONTACT: Isabel Saltzman, Aviation Safety Engineer, FAA, 1600 Stewart Avenue, Suite 410, Westbury, NY 11590; phone: (781) 238-7649; email: isabel.l.saltzman@faa.gov.

SUPPLEMENTARY INFORMATION:

Comments Invited

The FAA invites you to send any written data, views, or arguments about this final rule. Send your comments to an address listed under ADDRESSES. Include “Docket No. FAA-2024-0991; Project Identifier MCAI-2024-00051-A” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Isabel Saltzman, Aviation Safety Engineer, FAA, 1600 Stewart Avenue, Suite 410, Westbury, NY 11590. Any commentary that the FAA receives which is not specifically designated as CBI will be placed in the public docket for this rulemaking.

Background

Transport Canada, which is the aviation authority for Canada, has issued Transport Canada AD CF-2024-02, dated January 12, 2024 (also referred to as the MCAI), to correct an unsafe condition on Diamond Aircraft Industries Inc. Model DA 62 airplanes, serial numbers 62.C001 through 62.C044 and 62.008 through 62.203. The MCAI states that the DA 62 AMM initially specified standard torque values for the horizontal stabilizer attachment bolts but these attachment bolts were designed to require a higher torque value and the AMM was updated to include the correct torque value. During the time the DA 62 AMM specified the lower, incorrect torque value, there could have been occurrences where the removal of the horizontal stabilizer attachment bolts was required, and the lower torque value was used for the installation of the horizontal stabilizer attachment bolts.

The FAA is issuing this AD to address incorrect torque values for the horizontal stabilizer attachment bolts. The unsafe condition, if not addressed, could result in premature wearing of the horizontal stabilizer attachment bolts, loss of structural integrity of the horizontal stabilizer, subsequent separation of the horizontal stabilizer from the fuselage, and loss of control of the airplane.

You may examine the MCAI in the AD docket at regulations.gov under Docket No. FAA-2024-0991.

Related Service Information Under 1 CFR Part 51

The FAA reviewed Diamond Aircraft Industries Work Instruction WI-MSB-62-052, Revision 0, dated September 18, 2023, attached to Diamond Aircraft Industries Mandatory Service Bulletin MSB 62-052, Revision 0, dated September 18, 2023 (issued as one document), which specifies procedures for reviewing the aircraft technical records to determine if the horizontal stabilizer bolts were last torqued to 45 newton meters (Nm) and torquing the horizontal stabilizer attachment bolts to 45 Nm.

This service information is reasonably available because the interested parties have access to it through their normal course of business or by the means identified in ADDRESSES.

FAA's Determination

These products have been approved by the aviation authority of another country and are approved for operation in the United States. Pursuant to the FAA's bilateral agreement with this State of Design Authority, it has notified the FAA of the unsafe condition described in the MCAI and service information referenced above. The FAA is issuing this AD after determining that the unsafe condition described previously is likely to exist or develop on other products of the same type design.

AD Requirements

This AD requires reviewing the airplane maintenance records to determine the torque values for the horizontal stabilizer attachment bolts and torquing the horizontal stabilizer attachment bolts to 45 Nm if necessary.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because horizontal stabilizer bolts, if not torqued to the correct value, could result in premature wearing of the horizontal stabilizer attachment bolts, loss of structural integrity of the horizontal stabilizer, subsequent separation of the horizontal stabilizer from the fuselage, and loss of control of the airplane. Additionally, the corrective action must be accomplished before further flight. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 86 airplanes of U.S. registry.

The FAA estimates the following costs to comply with this AD:

Estimated Costs
Action | Labor cost | Parts cost | Cost per product | Cost on U.S. operators
Review airplane maintenance records | 1 work-hour × $85 per hour = $85 | $0 | $85 | $7,310

The FAA estimates the following costs to do any necessary on-condition action that would be required based on the results of the records review. The FAA has no way of determining the number of aircraft that might need this on-condition action:

On-Condition Costs
Action | Labor cost | Parts cost | Cost per product
Torque attachment bolts | 1 work-hour × $85 per hour = $85 | $0 | $85

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-07-03 Diamond Aircraft Industries Inc.: Amendment 39-22724; Docket No. FAA-2024-0991; Project Identifier MCAI-2024-00051-A.

(a) Effective Date

This airworthiness directive (AD) is effective April 24, 2024.

(b) Affected ADs

None.

(c) Applicability

This AD applies to Diamond Aircraft Industries Inc. Model DA 62 airplanes, serial numbers 62.C001 through 62.C044 inclusive and 62.008 through 62.203 inclusive, certificated in any category.

(d) Subject

Joint Aircraft System Component (JASC) Code 5510, Horizontal Stabilizer Structure.

(e) Unsafe Condition

This AD was prompted by a report that certain revisions of the airplane maintenance manual specified incorrect torque values for the horizontal stabilizer attachment bolts. The FAA is issuing this AD to address incorrect torque values for the horizontal stabilizer attachment bolts. The unsafe condition, if not addressed, could result in premature wearing of the horizontal stabilizer attachment bolts, loss of structural integrity of the horizontal stabilizer, subsequent separation of the horizontal stabilizer from the fuselage, and loss of control of the airplane.

(f) Compliance

Comply with this AD within the compliance times specified, unless already done.

(g) Required Actions

Within 30 days or 30 hours time-in-service after the effective date of this AD, whichever occurs later, review the airplane maintenance records to determine if the horizontal stabilizer attachment bolts were last torqued to 45 newton meter (Nm) and if the torque value is not 45 Nm, or if the value cannot be determined, before further flight, torque the bolts to 45 Nm, in accordance with steps 3 through 6 of the Instructions, Section III, in Diamond Aircraft Industries Work Instruction WI-MSB-62-052, Revision 0, dated September 18, 2023, attached to Diamond Aircraft Industries Mandatory Service Bulletin MSB 62-052, Revision 0, dated September 18, 2023 (issued as one document).

(h) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (i)(2) of this AD or email to: 9-AVS-AIR-730-AMOC@faa.gov. If mailing information, also submit information by email. Before using any approved AMOC, notify your appropriate principal inspector, or lacking a principal inspector, the manager of the responsible Flight Standards Office.

(i) Additional Information

(1) Refer to Transport Canada AD CF-2024-02, dated January 12, 2024, for related information. This Transport Canada AD may be found in the AD docket at regulations.gov under Docket No. FAA-2024-0991.

(2) For more information about this AD, contact Isabel Saltzman, Aviation Safety Engineer, FAA, 1600 Stewart Avenue, Suite 410, Westbury, NY 11590; phone: (781) 238-7649; email: isabel.l.saltzman@faa.gov.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Diamond Aircraft Industries Work Instruction WI-MSB-62-052, Revision 0, dated September 18, 2023, attached to Diamond Aircraft Industries Mandatory Service Bulletin MSB 62-052, Revision 0, dated September 18, 2023 (issued as one document).

(ii) [Reserved]

(3) For service information contact Diamond Aircraft Industries Inc., 1560 Crumlin Road, London, N5V 1S2, Canada; phone: (519) 457-4041; email: support-canada@diamondaircraft.com; website: diamondaircraft.com.

(4) You may view this service information at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on March 27, 2024.
Victor Wicklund,
Deputy Director, Compliance & Airworthiness Division, Aircraft Certification Service.

[FR Doc. 2024-07441 Filed 4-4-24; 11:15 am]

BILLING CODE 4910-13-P